DEPARTMENT OF HOMELAND SECURITY

Federal Emergency Management Agency

44 CFR Part 67

[Docket No. FEMA-B-7702]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. An environmental impact assessment has not been prepared.

Regulatory Flexibility Act

As flood elevation determinations are not within the scope of the Regulatory Flexibility Act, 5 U.S.C. 601-612, a regulatory flexibility analysis is not required.

Regulatory Classification

This proposed rule is not a significant regulatory action under the criteria of section 3(f) of Executive Order 12866 of September 30, 1993, Regulatory Planning and Review, 58 FR 51735.

Executive Order 13132, Federalism

This proposed rule involves no policies that have federalism implications under Executive Order 13132.

Executive Order 12988, Civil Justice Reform

This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Calhoun County, Alabama and Incorporated Areas
Coosa River | Talladega County Line | None | +479 | Calhoun County (Unincorporated Areas).
| Etowah County Line | None | +510 |
* National Geodetic Vertical Datum.
# Depth in feet above ground.
+ North American Vertical Datum.
ADDRESSES
Town of Ohatchee
Maps are available for inspection at 7801 Alabama Highway 77, Ohatchee, AL 36271.
Send comments to The Honorable Joseph K. Roberson, Mayor, Town of Ohatchee, 7801 Alabama Highway 77, Ohatchee, AL 36271.
Calhoun County (Unincorporated Areas)
Maps are available for inspection at 507 Francis Street W, Jacksonville, AL 36265.
Send comments to The Honorable Rudy Abbott, Chairman, Calhoun County, 1702 Nobel Street, Suite 103, Anniston, AL 36201.
De Kalb County, Alabama, and Incorporated Areas
Big Wills Creek | Approximately 7,000 feet downstream of confluence with Little Wills Creek | None | +672 | Town of Collinsville, De Kalb County (Unincorporated Areas).
| Approximately 10,000 feet upstream of confluence with Little Wills Creek | None | +680 |
Big Wills Creek | Approximately 2,500 feet upstream of confluence with Hammond Branch | None | +963 | Town of Hammondville.
| Approximately 5,000 feet upstream of confluence with Hammond Branch | None | +980 |
Bib Wills Creek | Confluence with Davis Gap Creek | None | +783 | De Kalb County (Unincorporated Areas).
| Appoximately 2,000 feet upstream of confluence with Davis Gap Creek | None | +786 |
Davis Gap Creek | Confluence with Big Wills Creek | None | +783 | De Kalb County (Unincorporated Areas).
| Approximately 1,500 feet upstream of confluence with Big Wills Creek | None | +786 |
Ivy Creek | Confluence with Town Creek | None | +1,152 | De Kalb County, (Unincorporated Areas).
| Approximately 1,000 feet upstream of confluence with Town Creek | None | +1,154 |
Little Wills Creek | Confluence with Big Wills Creek | None | +674 | Town of Collinsville, De Kalb County (Unincorporated Areas).
| Church Avenue Crossing | None | +710 |
Little Wills Creek | Approximately 1,500 feet upstream of SR 68 Crossing | None | +734 | Town of Collinsville.
| Approximately 2,500 feet upstream of SR 68 Crossing | None | +738 |
Little Wills Creek Tributary | Approximately 5,000 feet upstream of confluence with Little Wills Creek | None | +729 | Town of Collinsville.
| Approximately 5,700 feet upstream of confluence with Little Wills Creek | None | +731 |
Little Wills Valley Branch | Approximately 2,500 feet downstream of 41st Street South Crossing | None | +839 | De Kalb County (Unincorporated Areas).
| Approximately 2,000 feet downstream of 41st Street South Crossing | None | +843 |
Phillips Branch | Approximately 200 feet upstream of South Sauty Creek | None | +1,166 | City of Rainsville, De Kalb County (Unincorporated Areas).
| Approximately 1,000 feet upstream of South Sauty Creek | None | +1,171 |
Piney Creek | Approximately 7,000 feet downstream of Horton Road Crossing | None | +1,199 | City of Rainsville, Town of Shiloh, De Kalb County (Unincorporated Areas).
| Confluence with Piney Creek Tributary | None | +1,215 |
Town Creek | Approximately 1,000 feet upstream of confluence with Bynum Mill Branch | None | +1,124 | City of Rainsville, De Kalb County (Unincorporated Areas).
| Approximately 2,000 feet upstream of SR35 Crossing | None | +1,175 |
*National Geodetic Vertical Datum.
#Depth in feet above ground.
+North American Vertical Datum.
ADDRESSES
City of Rainsville
Maps are available for inspection at 70 McCurdy Avenue, Rainsville, AL 35988.
Send comments to The Honorable Donnie Chandler, Mayor, City of Rainsville, P.O. Box 309, Rainsville, AL 35986.
Town of Collinsville
Maps are available for inspection at 39 Post Office Street, Collinsville, AL 35961.
Send comments to The Honorable Jimmy Carter, Mayor, Town of Collinsville, P.O. Box N, Collinsville, AL 35961.
Town of Hammondville
Maps are available for inspection at 37699 U.S. Highway 11, Hammondville, AL 35989.
Send comments to The Honorable Larry Watson, Mayor, Town of Hammondville, P.O. Box 329, Valley Head, AL 35989.
Town of Shiloh
Maps are available for inspection at 111 Grand Avenue, Suite 200, Fort Payne, AL 35967.
Send comments to The Honorable Charles D. Liles, Mayor, Town of Shiloh, P.O. Box 924, Rainsville, AL 35986.
De Kalb County (Unincorporated Areas)
Maps are available for inspection at 111 Grand Avenue, Suite 200, Fort Payne, AL 35967.
Send comments to The Honorable Sid Holcomb, Chairman, DeKalb County, 111 Grand Avenue, Suite 200, Fort Payne, AL 35967.
Escambia County, Alabama and Incorporated Areas
Big Escambia Creek | U.S. 29 and U.S. 31 Crossing | None | +73 | Escambia County (Unincorporated Areas).
| Approximately 8,000 feet upstream of U.S. 9 and U.S. 31 Crossing | None | +78
Burnt Corn | Approximately 6,200 feet upstream of confluence with Murder Creek | None | +88 | Escambia County (Unincorporated Areas).
| Approximately 1,500 feet upstream of confluence with Little Juniper Creek | None | +109
Conecuh River | Approximately 6,000 feet upstream of confluence with Murder Creek | None | +79 | Town of Riverview, Escambia County (Unincorporated Areas).
| Approximately 31,000 feet upstream of confluence with Murder Creek | None | +86
Franklin Mill Creek | Approximately 4,000 feet upstream of confluence with Murder Creek | None | +69 | Escambia County (Unincorporated Areas).
| Approximately 4,000 feet upstream of Booth Boulevard Crossing | None | +91
King Branch | Confluence with Murder Creek | None | +90 | Escambia County (Unincorporated Areas).
| Martin Luther King Drive Crossing | None | +109
Mantle Branch | Confluence with Conecuh River | None | +82 | Escambia County (Unincorporated Areas).
| Forrest Avenue (U.S. 29) Crossing | None | +82
Murder Creek | Approximately 11,000 feet upstream of confluence with Conecuh River | None | +81 | Escambia County (Unincorporated Areas).
| Approximately 10,000 feet upstream of confluence with King Branch | None | +95
* National Geodetic Vertical Datum.
# Depth in feet above ground.
+ North American Vertical Datum.
ADDRESSES
Town of Riverview
Maps are available for inspection at 4190 Highway 41, Brewton, AL 36426.
Send comments to The Honorable Carl O. Smith, Mayor, Town of Riverview, PO Box 2368, Riverview, AL 36427.
Escambia County (Unincorporated Areas)
Maps are available for inspection at 314 Belleville Avenue, Brewton, AL 36426.
Send comments to The Honorable Larry W. White, Chairman, Escambia County Commission, P.O. Box 848, Brewton, AL 36427.
Etowah County, Alabama, and Incorporated Areas
Coosa River | St. Clair County Line | None | +511 | City of Southside.
| Approximately 25,000 feet upstream of SR 77 Crossing | None | +516
Coosa River | Approximately 1,000 feet downstream of confluence with Big Cove Creek | None | +524 | Town of Hokes Bluff.
| Approximately 35,000 feet upstream of confluence with Big Cove Creek | None | +529
Greenway Creek | Hooke Street Crossing | None | +523 | City of Gadsden.
| Springfield Avenue Crossing | None | +530
Little Cove Creek | U.S. 278 Crossing | None | +524 | Town of Hokes Bluff.
| Approximately 6,000 feet upstream of U.S. 278 Crossing | None | +524
Locust Fork of Black Warrior River | Approximately 7,500 feet downstream of Payne Branch | None | +821 | Town of Walnut Grove, Etowah County (Unincorporated Areas).
| Approximately 1,000 feet upstream of Payne Branch | None | +827
Payne Branch | Confluence with Locust Fork of Black Warrior River | None | +824 | Town of Walnut Grove.
| Ashville Road Crossing | None | +836
Town Creek | Approximately 3,000 feet upstream of Tuscaloosa Avenue Crossing | None | +544 | City of Gadsden, Etowah County (Unincorporated Areas).
| Approximately 4,400 feet upstream of Tuscaloosa Avenue Crossing | None | +554
* National Geodetic Vertical Datum.
# Depth in feet above ground.
+ North American Vertical Datum.
ADDRESSES
City of Gadsden
Maps are available for inspection at 90 Broad Street, Gadsden, AL 35901.
Send comments to The Honorable Steve Means, Mayor, City of Gadsden, 90 Broad Street, Gadsden, AL 35901.
City of Southside
Maps are available for inspection at 2255 Highway 77, Southside, AL 35907.
Send comments to The Honorable Wally Burns, Mayor, City of Southside, 2255 Highway 77, Southside, AL 35907.
Town of Hokes Bluff
Maps are available for inspection at 3301 Alford Bend Road, Hokes Bluff, AL 35903.
Send comments to The Honorable Tim Langdale, Mayor, Town of Hokes Bluff, 3301 Alford Bend Road, Hokes Bluff, AL 35903.
Town of Walnut Grove
Maps are available for inspection at 4012 Gadsden-Blountsville Rd., Walnut Grove, AL 35990.
Send comments to The Honorable Autry Works, Mayor, Town of Walnut Grove, 4012 Gadsden-Blountsville Road, Walnut Grove, AL 35990.
Etowah County (Unincorporated Areas)
Maps are available for inspection at 800 Forrest Avenue, Gadsden, AL 35901.
Send comments to The Honorable Tim N. Choate, Chairman, Etowah County Commission, 800 Forrest Avenue, Gadsden, AL 35901.
Marshall County, Alabama, and Incorporated Areas
Guntersville Lake | Approximately 5,000 feet downstream of SR 69 Crossing | None | +596 | City of Guntersville, Marshall County (Unincorporated Areas).
| SR 69 Crossing | None | +596
* National Geodetic Vertical Datum.
# Depth in feet above ground.
+ North American Vertical Datum.
ADDRESSES
City of Guntersville
Maps are available for inspection at 341 Gunter Avenue, Guntersville, AL 35976.
Send comments to The Honorable Robert Henbree, Mayor, City of Guntersville, 341 Gunter Avenue, Guntersville, AL 35976.
Marshall County (Unincorporated Areas)
Maps are available for inspection at 424 Blount Avenue, Guntersville, AL 35976.
Send comments to The Honorable Billy Cannon, Chairman, Marshall County Commission, 424 Blount Avenue, Guntersville, AL 35976.
Talladega County, Alabama, and Incorporated Areas
Blue Eye Creek | Approximately 2,000 feet downstream of McLain Avenue Crossing | None | +482 | Talladega County (Unincorporated Areas)
| Approximately 1,000 feet upstream of McLain Avenue Crossing | None | +486
Coosa River | Approximately 13,000 feet downstream of confluence with Talladega Creek | None | +413 | Talladega County (Unincorporated Areas)
| Approximately 3,000 feet downstream of confluence with Talladega Creek | None | +414
Coosa River | Shelby County Line | None | +418 | Town of Lincoln, Talladega County (Unincorporated Areas).
| Calhoun County Line | None | +479 |
Crooked Creek | Approximately 4,500 feet downstream of 3rd Street Crossing | None | +521 | Talladega County (Unincorporated Areas).
| Approximately 2,000 feet downstream of 3rd Street crossing | None | +526
Griffin Branch | Approximately 7,800 feet downstream of Bon Air Road Crossing | None | +421 | City of Childersburg, Town of Bon Air, Talladega County (Unincorporated Areas).
| U.S. Highway 280 Crossing | None | +469
Shirtee Creek | Odena Road Crossing | None | +465 | Talladega County (Unincorporated Areas).
| Approximately 3,000 feet upstream of Odena Road Crossing | None | +471
Talladega Creek | Confluence with Coosa River | None | +417 | Talladega County (Unincorporated Areas).
| Approximately 8,000 feet upstream of confluence with Coosa River | None | +418
Upper Shirtee Creek | Approximately 1,000 feet downstream of Old Birmingham Highway Crossing | None | +516 | Talladega County (Unincorporated Areas).
| Old Birmingham Highway Crossing | None | +518
* National Geodetic Vertical Datum.
# Depth in feet above ground.
+ North American Vertical Datum.
ADDRESSES
City of Childersburg
Maps are available for inspection at 118 Sixth Avenue, SW, Childersburg, AL 35044.
Send comments to The Honorable B. J. Meeks, Mayor, City of Childersburg, 118 Sixth Avenue, SW, Childersburg, AL 35044.
Town of Bon Air
Maps are available for inspection at 500 Institute Lane, Talladega, AL 35161.
Send comments to The Honorable Pam Pilketon, Mayor, Town of Bon Air, P.O. Box 117, Bon Air, AL 35032.
Town of Lincoln
Maps are available for inspection at 33 Complex Drive, Linclon, AL 35096.
Send comments to The Honorable Carroll L. Watson, Mayor, City of Lincoln, 33 Complex Drive, Lincoln, AL 35096.
Talladega County (Unincorporated Areas)
Maps are available for inspection at 500 Institute Lane, Talladega, AL 35161.
Send comments to The Honorable Jimmy Roberson, Chairman, County Commission of Talladega, 1 Courthouse Square, Talladega, AL 35161.
Columbia County, Florida and Incorporated Areas
Cannon Creek | Approximately 450 feet upstream of the confluence with Clay Hole Creek | None | +70 | Columbia County (Unincorporated Areas).
| Approximately 650 feet upstream of Quail Heights Boulevard | None | +136
Montgomery Outlet Stream | Approximately 900 feet upstream of the confluence with Alligator Lake | *104 | +104 | City of Lake City.
| At the confluence with Lake Montgomery | *131 | +131
Lake Montgomery | Entire shoreline | *131.3 | +130.8 | City of Lake City.
Rose Creek | Approximately 1,350 feet upstream of the confluence with Clay Hole Creek | None | +50 | Columbia County (Unincorporated Areas).
| Approximately 600 feet upstream of SW Tustennugee Avenue | None | +88
Ponding Area 1 | An approximately 77 acre area at the intersection of Upchurch Road and Prairie Road | None | +91.3 | Columbia County (Unincorporated Areas).
Ponding Area 2 | An approximately 10 acre area at the intersection of Troy Road and Callanan Road | None | +93.6 | Columbia County (Unincorporated Areas).
Ponding Area 3a | An approximately 25 acre area at the intersection of County Road 252 and Holly Drive | None | +103.2 | Columbia County (Unincorporated Areas).
Ponding Area 3b | An approximately 5 acre area at the intersection of Pine Lane and Forest Avenue | None | +107.7 | Columbia County (Unincorporated Areas)
Ponding Area 3c | An approximately 5 acre area just west of Cherokee Road | None | +104.2 | Columbia County (Unincorporated Areas).
Ponding Area 3d | An approximately 11 acre area just east of Cherokee Road | None | +104.5 | Columbia County (Unincorporated Areas).
Ponding Area 3e | An approximately 5 acre area just east of Johnathan Road | None | +105.3 | Columbia County (Unincorporated Areas).
* National Geodetic Vertical Datum.
# Depth in feet above ground
+ North American Vertical Datum.
ADDRESSES
Columbia County (Unincorporated Areas)
Maps are available for inspection at the Columbia County Courthouse, 173 Northeast Hernando Avenue, Lake City, Florida.
Send comments to Mr. Dale Williams, Columbia County Manager, P.O. Box 1529, Lake City, Florida 32056-1529.
City of Lake City
Maps are available for inspection at the Lake City City Hall, 205 North Marion Avenue, Lake City, Florida.
Send comments to Mr. Grayson Cason, Lake City City Manager, 205 North Marion Avenue, Lake City, Florida 32055.
Gulf County, Florida and Incorporated Areas
Five Acre Farm Creek East | Approximately 800 feet downstream of County Route 381 | None | +23 | Gulf County (Unincorporated Areas).
| Approximately 1.0 mile upstream of County Route 381 | None | +26
Five Acre Farm Creek West | Approximately 1.6 miles downstream of State Route 71 | None | +25 | Gulf County (Unincorporated Areas).
| Just upstream of State Route 71 | None | +26
Stone Mill Creek | Approximately 0.4 mile downstream of State Route 71 | None | +30 | Gulf County (Unincorporated Areas), City of Wewahitchka.
| Approximately 2.8 miles upstream of State Route 71 | None | +31
* National Geodetic Vertical Datum.
# Depth in feet above ground.
+ North American Vertical Datum.
ADDRESSES
Gulf County (Unincorporated Areas)
Maps are available for inspection at the Gulf County Courthouse, 1000 Cecil G. Costin, Sr. Boulevard, Room 302, Port St. Joe, Florida.
Send comments to Mr. Carmen L. McLemore, Chairman of the Gulf County Board of Commissioners, 1000 Cecil G. Costin, Sr. Boulevard, Port St. Joe, Florida 32456.
City of Wewahitchka
Maps are available for inspection at the Wewahitchka City Hall, 109 South 2nd Street, Wewahitchka, Florida.
Send comments to Mr. Donald Minchew, Wewahitchka City Manager, 109 South 2nd Street, Wewahitchka, Florida 32465.
Seminole County, Florida, and Incorporated Areas
Deep Lake |  | None | +55 | Seminole County (Unincorporated Areas)
Lake Pickett |  | None | +58 | Seminole County (Unincorporated Areas)
* National Geodetic Vertical Datum.
# Depth in feet above ground.
+ North American Vertical Datum.
ADDRESSES
Seminole County (Unincorporated Areas)
Maps are available for inspection at Seminole County Manager, 1101 East First Street, Sanford, FL 32771.
Send comments to Mr. Don Fisher, County Manager, Seminole County Services Building, 1101 East First Street, Sanford, FL 32771.
Suwannee County, Florida and Incorporated Areas
Closed Basin Area 1A | An area located approximately 0.8 mile southwest of the intersection of 104th Street and County Road 49 | None | +91 | Suwannee County (Unincorporated Areas)
Closed Basin Area 1B | An area located approximately 460 feet east of the intersection of 112th Street and 109th Drive | None | +100 | Suwannee County (Unincorporated Areas).
Closed Basin Area 1C | An area located approximately 0.5 mile west of the intersection of 112th Street and County Road 49 | None | +91 | Suwannee County (Unincorporated Areas).
Closed Basin Area 1D | An area located approximately 900 feet east of the intersection of 112th Street and County Road 49 | None | +115 | Suwannee County (Unincorporated Areas).
Closed Basin Area 1E | An area located approximately 0.4 mile east of the intersection of 112th Street and County Road 49 | None | +125 | Suwannee County (Unincorporated Areas).
Closed Basin Area 1F | An area located approximately 550 feet southeast of the intersection of 114th Terrace and County Road 49 | None | +104 | Suwannee County (Unincorporated Areas).
Closed Basin Area 2A | An area located approximately 1,250 feet southeast of the intersection of 99th Lane and 146th Street | None | +99 | Suwannee County (Unincorporated Areas).
Closed Basin Area 2B | An area located approximately 0.25 mile northeast of the intersection of 99th Lane and 146th Street | None | +98 | Suwannee County (Unincorporated Areas).
Closed Basin Area 2C | An area located approximately 0.4 mile east of the intersection of 99th Lane and 146th Street | None | +93 | Suwannee County (Unincorporated Areas).
Closed Basin Area 2D | An area located approximately 0.6 mile southeast of the intersection of 99th Lane and 146th Street | None | +93 | Suwannee County (Unincorporated Areas).
Closed Basin Area 2E | An area located approximately 0.7 mile northeast of the intersection of 99th Lane and 146th Street | None | +104 | Suwannee County (Unincorporated Areas).
* National Geodetic Vertical Datum.
# Depth in feet above ground.
+ North American Vertical Datum.
ADDRESSES
Suwannee County (Unincorporated Areas)
Maps are available for inspection at the Suwannee County Coordinator's Office, Suwannee County Courthouse, 200 South Ohio/MLK Jr. Avenue, Live Oak, Florida.
Send comments to Mr. John Wooley, Suwannee County Coordinator, 224 Pine Avenue, Live Oak, Florida 32064.
Union County, Georgia and Incorporated Areas
Akins Creek/Cooks Cove Branch | At confluence with Nottely River (Upper Reach) | None | *1,829 | Union County (Unincorporated Areas).
| Approximately 1,690 feet upstream of Town Mountain Road | None | *1,903 |
Anderson Creek | At confluence with Coosa Creek | None | *1,805 | Union County (Unincorporated Areas).
| Approximately 2,660 feet upstream of the confluence with Coosa Creek | None | *2,015 |
Arkaqua Creek | At confluence with Nottely River (Upper Reach) | None | *1,832 | Union County (Unincorporated Areas).
| Approximately 11,170 feet upstream of Lower Trackrock Road | None | *2,015 |
Barnes Creek | At confluence with Ivylog Creek | None | *1,790 | Union County (Unincorporated Areas).
| Just upstream of Ivylog Road | None | *1,810 |
Brasstown Creek | Approximately 1,100 feet downstream of Young Harris Highway | None | *1,889 | Union County (Unincorporated Areas).
| Approximately 3,500 feet upstream of Young Harris Highway | None | *1,931 |
Butternut Creek | At confluence with Nottely River (Upper Reach) | *1,786 | *1,783 | City of Blairsville, Union County (Unincorporated Areas).
| Approximately 8,210 feet upstream of Memory Gardens Drive | None | *1,950 |
Conley Creek | Approximately 2,750 feet downstream of Murphy Highway | None | *1,788 | Union County (Unincorporated Areas).
| Approximately 70 feet upstream of Ivylog Road | None | *1,852 |
Coosa Creek | Approximately 90 feet downstream of Blue Ridge Highway | None | *1,802 | Union County (Unincorporated Areas).
| At confluence of East and West Forks Coosa Creek | None | *1,865 |
Dooley Creek | Approximately 130 feet downstream of John Smith Road West | None | *1,653 | Union County (Unincorporated Areas).
| Approximately 855 feet upstream of R.T. Lance Road | None | *1,784 |
East Fork Coosa Creek | At confluence with Coosa Creek | None | *1,865 | Union County (Unincorporated Areas).
| Approximately 3,030 feet upstream of Crawley Gap Road | None | *1,950 |
Ivylog Creek | Approximately 100 feet downstream of the confluence of Barnes Creek | None | *1,789 | Union County (Unincorporated Areas).
| Approximately 3,280 feet upstream of Gumlog Road | None | *1,899 |
Jones Creek | At confluence with Youngcane Creek | None | *1,877 | Union County (Unincorporated Areas).
| Approximately 360 feet upstream of R Way Road | None | *1,955 |
Kiutuestia Creek | Approximately 50 feet downstream of Kiutuestia Creek Road | None | *1,783 | Union County (Unincorporated Areas).
| Just downstream of Pleasant Grove Road | None | *1,884 |
Little Youngcane Creek | At confluence with Youngcane Creek | None | *1,877 | Union County (Unincorporated Areas).
| Approximately 50 feet upstream of Blue Ridge Highway | None | *1,935 |
Nottely Lake | Entire Shoreline | None | *1,783 | Union County (Unincorporated Areas).
Nottely River (Lower Reach) | Approximately 3,465 feet downstream of John Smith Road West | None | *1,600 | Union County (Unincorporated Areas).
| Approximately 8,180 feet upstream of John Smith Road West | None | *1,615 |
Nottely River (Upper Reach) | Approximately 800 feet upstream of State Highway 515 | None | *1,782 | Union County (Unincorporated Areas).
| Approximately 50 feet upstream of Hatchet Creek Road | None | *2,021 |
Stink Creek | At confluence with Nottely River (Upper Reach) | None | *1,889 | Union County (Unincorporated Areas).
| Approximately 200 feet upstream of Wolfstake Road East | None | *2,007 |
Suches Creek | At confluence with Toccoa River | None | *2,107 | Union County (Unincorporated Areas).
| Approximately 6,520 feet upstream of Old Robert Harkins Drive | None | *2,141 |
Toccoa River | Approximately 11,960 feet downstream of Parker Road | None | *2,407 | Union County (Unincorporated Areas).
| Approximately 2,220 feet upstream of Gooch Road South | None | *2,156 |
Town Creek | At confluence with Nottely River (Upper Reach) | *1,868 | *1,869 | Union County (Unincorporated Areas).
| Approximately 275 feet upstream of Fain Branch Road | None | *1,994 |
Trackrock Branch | At confluence with Arkaqua Creek | None | *1,890 | Union County (Unincorporated Areas).
| Approximately 3,900 feet upstream of the confluence with Arkaqua Creek | None | *1,920 |
West Fork Coosa Creek/Hicks Gap Branch | At confluence with Coosa Creek | None | *1,865 | Union County (Unincorporated Areas).
| Approximately 70 feet upstream of Mulky Gap Road | None | *1,945 |
Wolf Creek | At confluence with Nottely River (Upper Reach) | *1,865 | *1,866 | Union County (Unincorporated Areas).
| Approximately 1,375 feet upstream of Meadow Drive | None | *1,913 |
Youngcane Creek | Approximately 225 feet downstream of State Highway 515 | None | *1,817 | Union County (Unincorporated Areas).
| Approximately 2,420 feet upstream of Burnette Road | None | *1,984 |
* National Geodetic Vertical Datum.
# Depth in feet above ground.
+ North American Vertical Datum.
ADDRESSES
City of Blairsville
Maps are available for inspection at the Community Map Repository, City Hall, Blairsville, Georgia 30514.
Send comments to The Honorable Ray E. Potts, Mayor, City of Blairsville, City Hall, P.O. Box 307, Blairsville, Georgia 30514.
Union County (Unincorporated Areas)
Maps are available for inspection at the Community Map Repository, 114 Courthouse Street, Blairsville, Georgia 30512.
Send comments to Mr. Lamar Paris, Sole Commissioner, Union County, County Commissioner's Office, 114 Courthouse Street, Blairsville, Georgia 30512.
Fall River County, South Dakota, and Incorporated Areas
Fall River | Confluence with Cheyenne River | None | +3,046 | The City of Hot Springs, Fall River County (Unincorporated Areas).
| Approximately 0.25 miles upstream of Battle Mountain Avenue | +3,475 | +3,476
* National Geodetic Vertical Datum.
# Depth in feet above ground.
+ North American Vertical Datum.
ADDRESSES
Fall River County (Unincorporated Areas)
Maps are available for inspection at: County Courthouse, 906 North River Street, Hot Springs, South Dakota.
Send comments to: Mr. Glen Reaser, Chairman, Fall River County Commissioners, 906 North River Street, Hot Springs, South Dakota, 57747.
City of Hot Springs
Maps are available for inspection at: City Hall, 303 North River Street, Hot Springs, South Dakota.
Send comments to: The Honorable Carl Oberlitner, Mayor, City of Hot Springs, 303 North River Street, Hot Springs, South Dakota, 57747.
Cumberland County, Tennessee, and Incorporated Areas
Obed River | At Interstate Highway 40 | None | +1,674 | Cumberland County (Unincorporated Areas), City of Crossville.
| At confluence with Obed Creek | None | +1,702
Obed Creek | At confluence with Obed River | None | +1,702 | City of Crossville.
| Approximately 1,500 feet upstream of confluence with Town Branch | None | +1,736
* National Geodetic Vertical Datum.
# Depth in feet above ground.
+ North American Vertical Datum.
ADDRESSES
Cumberland County (Unincorporated Areas)
Maps are available for inspection at: Cumberland County, 2 North Main Street, Suite 203, Crossville, TN 38555.
Send comments to the Honorable Brock Hill, Mayor, Cumberland County, 2 North Main Street, Suite 203, Crossville, TN 38555.
City of Crossville
Maps are available for inspection at: Cumberland County EOC, 42 Southbend Drive, Crossville, TN 38555.
Send comments to the Honorable J.H. Graham, Mayor, City of Crossville, 99 Municipal Avenue, Crossville, TN 38555.
Fayette County Tennessee, and Incorporated Areas
Cane Creek | At the confluence of Little Cypress Creek | *278 | +278 | Fayette County, (Unincorporated Areas), Town of Gallaway.
| Approximately 7,000 feet upstream of Centerpoint Drive | None | +297
Cane Creek Tributary | At the confluence with Cane Creek | *285 | +284 | Town of Gallaway.
| Approximately 800 feet upstream of Highway 70 | *297 | +295
Cypress Creek | Just upstream of Highway 64 | *297 | +296 | Fayette County (Unincorporated Areas).
| Approximately 1,300 feet upstream of State Highway 196 | None | +310
Grays Creek | Approximately 1,980 feet southwest of the intersection of Seward Drive and Jacobs Way | None | +343 | Fayette County (Unincorporated Areas).
| Approximately 4,980 feet southwest of the intersection of Seward Drive and Walnut Hill Way | None | +359
North Fork Wolf River | At the confluence with Wolf River | *340 | +339 | Fayette County (Unincorporated Areas).
| Approximately 11,400 feet upstream of State Highway 76 | *361 | +361
* National Geodetic Vertical Datum.
# Depth in feet above ground.
+ North American Vertical Datum.
ADDRESSES
Town of Gallaway
Maps are available for inspection at 607 Watson Drive, Gallaway, TN 38036.
Send comments to The Honorable Elna Watson, Mayor, 607 Watson Drive, Gallaway, TN 38036.
Fayette County (Unincorporated Areas)
Maps are available for inspection at 16265 Highway 64, Suite 4, Somerville, TN 38068.
Send comments to The Honorable Rhea Taylor, Mayor, 10395 North Main Street, Somerville, TN 38068.
Guadalupe County, Texas, and Incorporated Areas
Cibolo Creek | Approximately 7,500 feet downstream from intersection with I-35 | *735 | +740 | City of Selma.
| Approximately 4,800 feet upstream from intersection with I-35 | *764 | +763
Dietz Creek | Approximately 2,000 feet downstream of I-35 | *749 | +751 | City of Selma.
| Approximately 4,000 feet upstream from I-35 | None | +767
Guadalupe River | Approximately 2,500 feet upstream from Confluence with Long Creek | *550 | +558 | City of New Braunfels.
| At East County Line Road | *587 | +598
* National Geodetic Vertical Datum.
* National Geodetic Vertical Datum.
# Depth in feet above ground.
+ North American Vertical Datum.
ADDRESSES
City of New Braunfels
Maps are available for inspection at 424 South Castell, New Braunfels, TX 78130.
Send comments to The Honorable Bruce Boyer, Mayor, City of Braunfels, 424 South Castell, New Braunfels, TX 78130.
City of Selma
Maps are available for inspection at 9375 Corporate Dr., Selma, TX 78154.
Send comments to The Honorable James Parma, Mayor, City of Selma, 9375 Corporate Dr., Schertz, TX 78154.

(Catalog of Federal Domestic Assistance No. 83.100, “Flood Insurance.”)

Dated: December 22, 2006.
David I. Maurstad,
Director, Mitigation Division, Federal Emergency Management Agency, Department of Homeland Security.

[FR Doc. E7-133 Filed 1-8-07; 8:45 am]

BILLING CODE 9110-12-P